DEPARTMENT OF TRANSPORTATION

Federal Aviation Administration

14 CFR Part 39

[Docket No. FAA-2012-1228; Directorate Identifier 2012-NM-190-AD; Amendment 39-17292; AD 2012-25-11]

RIN 2120-AA64

Airworthiness Directives; The Boeing Company Airplanes

AGENCY: Federal Aviation Administration (FAA), DOT.

ACTION: Final rule; request for comments.

SUMMARY: We are superseding an existing airworthiness directive (AD) for certain The Boeing Company Model 757-200, -200CB, and -300 series airplanes. That AD currently requires initial and repetitive inspections of the fuselage skin and bear strap at the forward, upper corner of the L1 entry door cutout for cracking, and repair if necessary. That action also provides an optional terminating action for the repetitive inspections. That AD also requires additional inspections for airplanes having repairs or preventative modifications installed and inspections for certain other airplanes. This AD requires the previous actions with additional airplane group configurations added to paragraph (n) of this AD. This AD was prompted by a determination that certain airplane group configurations in paragraph (n) of the existing AD were inadvertently removed in the final rule. We are issuing this AD to detect and correct cracking of the fuselage skin and bear strap at the forward upper corner of the L1 entry door cutout, which could result in reduced structural integrity of the L1 entry door, and consequent rapid decompression of the airplane.

DATES: This AD is effective January 10, 2013.

The Director of the Federal Register approved the incorporation by reference of a certain publication listed in this AD as of October 3, 2012 (77 FR 52212, August 29, 2012).

The Director of the Federal Register approved the incorporation by reference of a certain other publication listed in this AD as of May 24, 2004 (69 FR 25481, May 7, 2004).

We must receive any comments on this AD by February 11, 2013.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P. O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Nancy Marsh, Aerospace Engineer, Airframe Branch, ANM-120S, FAA, Seattle Aircraft Certification Office, 1601 Lind Avenue SW., Renton, WA 98057-3356; phone: 425-917-6440; fax: 425-917-6590; email: nancy.marsh@faa.gov.

SUPPLEMENTARY INFORMATION:

Discussion

On July 23, 2012, we issued AD 2012-15-15, Amendment 39-17144 (77 FR 52212, August 29, 2012), which superseded AD 2004-09-32, Amendment 39-13622 (69 FR 25481, May 7, 2004), for certain The Boeing Company Model 757-200, -200CB, and -300 series airplanes. AD 2012-15-15 requires initial and repetitive inspections of the fuselage skin and bear strap at the forward, upper corner of the L1 entry door cutout for cracking, and repair if necessary. That action also provides an optional terminating action for the repetitive inspections. That AD also requires additional inspections for airplanes having repairs or preventative modifications installed and inspections for certain other airplanes. That AD resulted from reports of additional cracking in the fuselage skin. We issued that AD to detect and correct cracking of the fuselage skin and bear strap at the forward upper corner of the L1 entry door cutout, which could result in reduced structural integrity of the L1 entry door, and consequent rapid decompression of the airplane.

Actions Since AD Was Issued

Since we issued AD 2012-15-15, Amendment 39-17144 (77 FR 52212, August 29, 2012), it was noted that certain airplane group configurations included in paragraph (n) of the NPRM were inadvertently removed in the final rule. This AD includes Group 1, Configuration 4, and Group 2, Configuration 3, in paragraph (n) of this AD.

FAA's Determination

We are issuing this AD because we evaluated all the relevant information and determined the unsafe condition described previously is likely to exist or develop in other products of the same type design.

AD Requirements

This AD requires retaining all requirements of AD 2012-15-15, Amendment 39-17144 (77 FR 52212, August 29, 2012).

FAA's Justification and Determination of the Effective Date

An unsafe condition exists that requires the immediate adoption of this AD. The FAA has found that the risk to the flying public justifies waiving notice and comment prior to adoption of this rule because all actions of AD 2012-15-15, Amendment 39-17144 (77 FR 52212, August 29, 2012), are retained and include certain airplane group configurations in paragraph (n) of this AD that were specified in the NPRM (76 FR 81890, December 29, 2011), but were inadvertently removed in the final rule of AD 2012-15-15. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2012-1228 and directorate identifier 2012-NM-190-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 591 airplanes of U.S. registry.

We estimate the following costs to comply with this AD:

Estimated Costs
Action | Work- hours | Average labor rate per hour | Cost per airplane | Number of U.S.- registered airplanes | Fleet cost
Inspections (retained actions from existing AD 2012-15-15, Amendment 39-17144 (77 FR 52212, August 29, 2012)) | 2 | $85 | $170 per inspection cycle | 57 | $9,690 per inspection cycle.
Inspection (retained actions from existing AD 2012-15-15, Amendment 39-17144 (77 FR 52212, August 29, 2012)) | 3 | $85 | $255 per inspection cycle | 591 | $150,705 per inspection cycle.
Supplemental inspection (retained actions from existing AD 2012-15-15, Amendment 39-17144 (77 FR 52212, August 29, 2012)) | 15 | $85 | $1,275 per inspection cycle | 591 | $753,525 per inspection cycle.

We estimate the following costs to do any necessary repairs that would be required based on the results of the inspections. We have no way of determining the number of aircraft that might need these repairs:

On-condition Costs
Action | Labor cost | Parts cost | Cost per product
Repair (retained actions from existing AD 2012-15-15, Amendment 39-17144 (77 FR 52212, August 29, 2012)) | Up to 26 work-hours × $85 = Up to $2,210 | Up to $2,661 | Up to $4,871 depending on configuration.
Preventive modification (retained actions from existing AD 2012-15-15, Amendment 39-17144 (77 FR 52212, August 29, 2012)) | 18 work-hours × $85 = $1,530 | $1,338 | $2,868

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2012-15-15, Amendment 39-17144 (77 FR 52212, August 29, 2012), and adding the following new AD:

2012-25-11 The Boeing Company: Amendment 39-17292; Docket No. FAA-2012-1228; Directorate Identifier 2012-NM-190-AD.

(a) Effective Date

This AD is effective January 10, 2013.

(b) Affected ADs

This AD supersedes AD 2012-15-15, Amendment 39-17144 (77 FR 52212, August 29, 2012).

(c) Applicability

This AD applies to all The Boeing Company Model 757-200, -200CB, and -300 series airplanes, certificated in any category. Model 757-200PF series airplanes are not affected by this AD.

(d) Subject

Joint Aircraft System Component (JASC)/Air Transport Association (ATA) of America Code 53: Fuselage.

(e) Unsafe Condition

This AD was prompted by reports of cracks in the fuselage skin and bear strap at the forward upper corner of the L1 entry door cutout. We are issuing this AD to detect and correct cracking of the fuselage skin and bear strap at the forward, upper corner of the L1 entry door cutout, which could result in reduced structural integrity of the L1 entry door and consequent rapid decompression of the airplane.

(f) Compliance

Comply with this AD within the compliance times specified, unless already done.

(g) Retained Initial Inspection With Terminating Action

This paragraph restates the requirements of paragraph (g) of AD 2012-15-15, Amendment 39-17144 (77 FR 52212, August 29, 2012), with a terminating action. For airplanes having line numbers 1 through 90 inclusive: Within 500 flight cycles after May 24, 2004 (the effective date of AD 2004-09-32, Amendment 39-13622 (69 FR 25481, May 7, 2004)), or within 90 days after May 24, 2004 (the effective date of AD 2004-09-32), whichever occurs later, do the inspections of the forward upper corner of the L1 entry door cutout specified in paragraphs (g)(1), (g)(2), and (g)(3) of this AD, per Part 1 of the Work Instructions of Boeing Special Attention Service Bulletin 757-53-0089, dated March 18, 2004, until the initial inspection required by paragraph (k) of this AD has been done. Doing the repair specified in paragraph (i) or (l) of this AD, or doing the preventive modification specified in paragraph (j) of this AD, terminates the inspections required by this paragraph.

(1) Do a high frequency eddy current (HFEC) inspection for cracking of the fuselage skin around the adjacent fasteners.

(2) Do an HFEC inspection for cracking along the edge of the skin and bear strap.

(3) Do a low frequency eddy current (LFEC) inspection for cracking of the bear strap around each fastener.

(h) Retained Repetitive Inspections and Terminating Modification When No Crack Is Detected

This paragraph restates the requirements of paragraph (h) of AD 2012-15-15, Amendment 39-17144 (77 FR 52212, August 29, 2012), with a terminating modification. If no crack is detected during any inspection required by paragraph (g) of this AD: Repeat the inspections required by paragraph (g) of this AD at intervals not to exceed 1,400 flight cycles, until the requirements of paragraph (k) of this AD are done. Doing the repair specified in paragraph (i) or (l) of this AD, or doing the preventive modification specified in paragraph (j) of this AD, as applicable, terminates the repetitive inspections required by this paragraph.

(i) Retained Repair, With Repair Option When Any Crack Is Detected

This paragraph restates the requirements of paragraph (i) of AD 2012-15-15, Amendment 39-17144 (77 FR 52212, August 29, 2012), with a repair option. If any crack is detected during any inspection required by paragraph (g) or (h) of this AD, and Boeing Special Attention Service Bulletin 757-53-0089, dated March 18, 2004, specifies to contact Boeing for appropriate action: Before further flight, repair, in accordance with a method approved by the Manager, Seattle Aircraft Certification Office (ACO), FAA; or in accordance with data meeting the type certification basis of the airplane approved by the Boeing Commercial Airplanes Organization Designation Authorization (ODA) that has been authorized by the Manager, Seattle ACO, to make such findings; or using a method approved in accordance with the procedures specified in paragraph (r) of this AD. For a repair method to be approved, the approval must specifically reference this AD. Doing the repair terminates the inspections required by paragraphs (g) and (h) of this AD.

(j) Retained Optional Preventive Modification

This paragraph restates the optional preventive modification specified in paragraph (j) of AD 2012-15-15, Amendment 39-17144 (77 FR 52212, August 29, 2012). As an alternative to accomplishing the inspections required by paragraphs (g) and (h) of this AD, do the optional preventative modification of the forward upper corner of the L1 entry door cutout, and do all applicable related investigative/corrective actions, by accomplishing all the actions specified in Part 2 of the Work Instructions of Boeing Special Attention Service Bulletin 757-53-0089, dated March 18, 2004. Accomplishment of the modification constitutes terminating action for the inspections required by paragraphs (g) and (h) of this AD.

(k) Retained Inspections

This paragraph restates the requirements of paragraph (k) of AD 2012-15-15, Amendment 39-17144 (77 FR 52212, August 29, 2012). For airplanes in Group 1, Configurations 1 and 2, and Group 2, Configuration 1, as defined in Boeing Special Attention Service Bulletin 757-53-0094, Revision 1, dated August 12, 2009: Except as provided by paragraph (p)(1) of this AD, at the applicable times specified in paragraph 1.E, “Compliance,” of Boeing Special Attention Service Bulletin 757-53-0094, Revision 1, dated August 12, 2009, do HFEC and LFEC inspections for cracking of the skin and bear strap at the forward upper corner of the L1 entry door cutout, in accordance with the Accomplishment Instructions of Boeing Special Attention Service Bulletin 757-53-0094, Revision 1, dated August 12, 2009, except as provided by paragraph (p) of this AD. Repeat the inspections thereafter at intervals not to exceed 1,400 flight cycles. Doing the initial inspection required by this paragraph terminates the inspections required by paragraphs (g) and (h) of this AD. Doing the repair specified in paragraph (l) of this AD, or doing the optional preventive modification specified in paragraph (m) of this AD, terminates the inspections required by this paragraph.

(l) Retained Terminating Repair

This paragraph restates the terminating repair specified in paragraph (l) of AD 2012-15-15, Amendment 39-17144 (77 FR 52212, August 29, 2012). If any cracking is found during any inspection required by paragraph (k) of this AD, before further flight, repair in accordance with the Accomplishment Instructions of Boeing Special Attention Service Bulletin 757-53-0094, Revision 1, dated August 12, 2009, except as required by paragraph (p) of this AD. Doing the repair terminates the repetitive inspections required by paragraph (k) of this AD.

(m) Retained Optional Preventive Modification

This paragraph restates the optional preventive modification specified in paragraph (m) of AD 2012-15-15, Amendment 39-17144 (77 FR 52212, August 29, 2012). Accomplishing the optional preventive modification, in accordance with the Accomplishment Instructions of Boeing Special Attention Service Bulletin 757-53-0094, Revision 1, dated August 12, 2009, except as provided by paragraph (p) of this AD, terminates the repetitive inspections required by paragraph (k) of this AD.

(n) Retained Inspections and Repair With New Airplane Group Configurations

This paragraph restates the requirements of paragraph (n) of AD 2012-15-15, Amendment 39-17144 (77 FR 52212, August 29, 2012), with new airplane group configurations. For airplanes in Group 1, Configurations 3, 4, and 5; and Group 2, Configurations 2, 3, and 4; as identified in Boeing Special Attention Service Bulletin 757-53-0094, Revision 1, dated August 12, 2009; with a repair doubler; a doubler and a tripler; or a doubler, tripler, and quadrupler installed; or with a preventive modification doubler installed: At the applicable times specified in paragraph 1.E, “Compliance,” of Boeing Special Attention Service Bulletin 757-53-0094, Revision 1, dated August 12, 2009, except as required by paragraph (p)(2) of this AD, do LFEC, HFEC, and detailed inspections, as applicable, for cracking of the doubler, tripler, quadrupler, skin, bear strap, and inner chord strap, as applicable, in accordance with the Accomplishment Instructions of Boeing Special Attention Service Bulletin 757-53-0094, Revision 1, dated August 12, 2009. Repeat the inspections thereafter at the applicable times specified in paragraph 1.E., “Compliance,” of Boeing Special Attention Service Bulletin 757-53-0094, Revision 1, dated August 12, 2009.

(o) Retained Repair

This paragraph restates the requirements of paragraph (o) of AD 2012-15-15, Amendment 39-17144 (77 FR 52212, August 29, 2012). If any cracking is found during any inspection required by paragraph (n) of this AD, before further flight, repair the crack in accordance with the procedures specified in paragraph (r) of this AD.

(p) Retained Exceptions to Service Bulletin Specifications

This paragraph restates the exceptions specified in paragraph (p) of AD 2012-15-15, Amendment 39-17144 (77 FR 52212, August 29, 2012). The following exceptions apply to this AD.

(1) Where Boeing Special Attention Service Bulletin 757-53-0094, Revision 1, dated August 12, 2009, specifies a compliance time after the “original issue date” or “Revision 1 date of the service bulletin,” this AD requires compliance within the specified compliance time after October 3, 2012 (the effective date of AD 2012-15-15, Amendment 39-17144 (77 FR 52212, August 29, 2012)).

(2) Where Boeing Special Attention Service Bulletin 757-53-0094, Revision 1, dated August 12, 2009, specifies doing the HFEC, LFEC, and detailed inspections required by paragraph (n) of this AD before the accumulation of 37,500 total flight cycles, this AD requires the inspections to be accomplished at the latest of the times specified in paragraphs (p)(2)(i), (p)(2)(ii), and (p)(2)(iii) of this AD.

(i) Before the accumulation of 37,500 total flight cycles.

(ii) Within 24 months after October 3, 2012 (the effective date of AD 2012-15-15, Amendment 39-17144 (77 FR 52212, August 29, 2012)).

(iii) Within 4,000 flight cycles since installation of a repair doubler; a doubler and a tripler; or a doubler, tripler, and quadrupler; or on which a preventive modification doubler is installed; in accordance with the Accomplishment Instructions of Boeing Special Attention Service Bulletin 757-53-0094, Revision 1, dated August 12, 2009; or in accordance with paragraph (h) of this AD.

(3) Where Boeing Special Attention Service Bulletin 757-53-0094, Revision 1, dated August 12, 2009, specifies contacting Boeing for repair instructions, this AD requires repairing in accordance with the procedures specified in paragraph (r) of this AD.

(4) Where Boeing Special Attention Service Bulletin 757-53-0094, Revision 1, dated August 12, 2009, specifies a specific fastener and material to be used for accomplishing a repair, this AD allows the substitution of fastener and material, as specified in Chapter 51 of the Boeing 757 Structural Repair Manual.

(5) Where Boeing Special Attention Service Bulletin 757-53-0094, Revision 1, dated August 12, 2009, specifies a specific fastener grip length, this AD allows substitution of a fastener grip length, as specified in Chapter 51 of the Boeing 757 Structural Repair Manual.

(6) If it is necessary to remove more parts for access, those parts may be removed. If access is possible without removing identified parts, it is not necessary to remove all of the identified parts.

(q) Retained Credit for Previous Actions

This paragraph restates the credit provisions specified in paragraph (q) of AD 2012-15-15, Amendment 39-17144 (77 FR 52212, August 29, 2012). For airplanes in Group 1, Configurations 1 and 2; and Group 2, Configuration 1; as defined in Boeing Special Attention 757-53-0094, Revision 1, dated August 12, 2009: This paragraph provides credit for the actions required by paragraph (k) of this AD, if those actions were performed before October 3, 2012 (the effective date of AD 2012-15-15), using Boeing Special Attention Service Bulletin 757-53-0094, dated January 16, 2008; or Boeing Special Attention Service Bulletin 757-53-0089, dated March 18, 2004 (which are not incorporated by reference in this AD).

(r) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the ACO, send it to ATTN: Nancy Marsh, Aerospace Engineer, Airframe Branch, ANM-120S, FAA, 1601 Lind Avenue SW., Renton, WA 98057-3356; phone: 425-917-6440; fax: 425-917-6432; email: nancy.marsh@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes ODA that has been authorized by the Manager, Seattle ACO to make those findings. For a repair method to be approved, the repair must meet the certification basis of the airplane, and the approval must specifically refer to this AD.

(4) AMOCs previously approved in accordance with AD 2004-09-32, Amendment 39-13622 (69 FR 25481, May 7, 2004), are approved as AMOCs for the corresponding actions specified in paragraphs (g), (h), and (i) of this AD.

(5) AMOCs previously approved in accordance with AD 2012-15-15, Amendment 39-17144 (77 FR 52212, August 29, 2012)), are approved as AMOCs for the corresponding actions specified in this AD.

(s) Related Information

(1) For more information about this AD, contact Nancy Marsh, Aerospace Engineer, Airframe Branch, ANM-120S, FAA, 1601 Lind Avenue SW., Renton, WA 98057-3356; phone: 425-917-6440; fax: 425-917-6432; email: nancy.marsh@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com.

(t) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on October 3, 2012 (77 FR 52212, August 29, 2012).

(i) Boeing Special Attention Service Bulletin 757-53-0094, Revision 1, dated August 12, 2009.

(ii) Reserved.

(4) The following service information was approved for IBR on May 24, 2004 (69 FR 25481, May 7, 2004).

(i) Boeing Special Attention Service Bulletin 757-53-0089, dated March 18, 2004.

(ii) Reserved.

(5) For service information identified in this AD, contact Boeing Commercial Airplanes, Attention: Data & Services Management, P.O. Box 3707, MC 2H-65, Seattle, WA 98124-2207; telephone 206-544-5000, extension 1; fax 206-766-5680; Internet https://www.myboeingfleet.com.

(6) You may review copies of the service information at the FAA, Transport Airplane Directorate, 1601 Lind Avenue SW., Renton, WA. For information on the availability of this material at the FAA, call 425-227-1221.

(7) You may also review copies of the service information that is incorporated by reference at the National Archives and Records Administration (NARA). For information on the availability of this material at NARA, call 202-741-6030, or go to: http://www.archives.gov/federal-register/cfr/ibr-locations.html.

Issued in Renton, Washington, on December 5, 2012.
Kalene C. Yanamura,
Acting Manager, Transport Airplane Directorate, Aircraft Certification Service.

[FR Doc. 2012-30305 Filed 12-21-12; 8:45 am]

BILLING CODE 4910-13-P